POSTAL SERVICE

39 CFR Part 111

Commercial Mail Receiving Agencies

AGENCY: Postal Service™.

ACTION: Proposed rule.

SUMMARY: The Postal Service is proposing to amend Mailing Standards of the United States Postal Service, Domestic Mail Manual (DMM®) section 508.1.8, to update the regulations concerning Commercial Mail Receiving Agencies (CMRAs).

DATES: Submit comments on or before February 13, 2023.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Commercial Mail Receiving Agencies”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Judi Mummy at (858) 674-3155, Clayton Gerber at (202) 449-8076, or Garry Rodriguez at (202) 268-7281.

SUPPLEMENTARY INFORMATION: The Postal Service is proposing to revise DMM subsection 508.1.8 by reorganizing and revising the subsections in 508.1.8. These changes are occurring, in part because the Postal Service has developed an electronic database to collect and manage the information collected on PS Form 1583, Application for Delivery of Mail Through Agent, which has been collected and maintained as paper records. Following are the proposed changes to subsection 508.1.8.

Current subsections 508.1.8.1 through 1.8.4 will be renumbered as subsections 508.1.8.2 through 1.8.5. New subsection 508.1.8.1 will define what type of business is considered a CMRA and therefore must comply with the requirements in this section. The definitions are based on the type of service the business entity receives from the Postal Service. If an entity receives U.S. Mail for multiple customers and receives single point mail delivery from the Postal Service, it is considered a CMRA for purposes of complying with these requirements. There will be three specifically defined entities that must register as a CMRA and comply with these requirements: a CMRA that provides private mail boxes and accepts delivery of mail on behalf of another; an office business center (OBC) that provides private office facilities for others and receives single-point mail delivery from the Postal Service; and a reshipping or redelivery service that accepts delivery of mail on behalf of another for the purpose of reshipping or redelivering that mail either physically or electronically.

Renumbered subsection 1.8.2, Procedures, will be revised to require a CMRA owner must apply to operate a CMRA by submitting a completed PS Form 1583-A, Application to Act as a Commercial Mail Receiving Agency, and presenting acceptable, and not expired, form of Identification to the Post Office for review. If any of the information on PS Form 1583-A changes over time or becomes expired, the CMRA owner must submit an updated form to the Postal Service. The Postal Service will be scanning and uploading this form to the Postal Service's Facilities Database (FDB). The Postal Service will add a new item 1.8.2e to provide notice that CMRAs not in compliance with these regulations could be suspended and that CMRAs will have 30 days to come into compliance, and a new item 1.8.2f to affirmatively state that CMRAs and private mailboxes (PMBs) may not be used for criminal purposes.

Renumbered subsection 1.8.3, Delivery to a CMRA, will be revised to specify requirements related to PS Form 1583, Application for Delivery of Mail Through Agent, necessary with the implementation of the new CMRA Customer Registration Database. Item 1.8.3a will be revised to specify that a CMRA owner or manager will have to complete and submit a PS Form 1583 form themselves. Further, it will specify that spouses must each complete a separate PS Form 1583 if they both choose to receive mail at a single PMB address. The Postal Service is also specifying that the name and address information submitted on PS Form 1583 must match the photo and address verification documents provided with the application or the application will be rejected. Identification documents must be current (not expired). Any changes to the information on a PS Form 1583 will require the submission of a new PS Form 1583 and the CMRA owner must retain a copy of the identification documents submitted with the application. Item 1.8.3c will be revised to specify that CMRA owners or managers will be required to enter the data from PS Form 1583 and upload copies of the supporting documents into the Postal Service's electronic CMRA Customer Registration Database rather than provide paper copies to their local Post Office. Item 1.8.3h will be revised to specify that CMRA owners or managers must enter the date PMBs close into the CMRA Customer Registration Database and that any expired, illegible, or unclear documents are not acceptable and will not be considered in compliance. Item 1.8.3i will be revised to specify that CMRA owners or manager must certify the information they submitted in the CMRA Customer Registration Database is current each quarter, with certifications due 15 days after the end of each quarter. Item 1.8.3j will be revised to specify that CMRAs will have 30 days to comply with deficiencies that are identified by the Postal Service. The Postal Service is proposing to add a new item 1.8.3l to specify that the CMRA may be directed by the Chief Postal Inspector to withhold mail from delivery to an individual PMB and return that mail to the Postal Service.

Renumbered subsection 1.8.4, Addressee and CMRA Agreement, will be updated to describe the procedures when the relationship between a CMRA and PMB holder end. Item 1.8.4a will be revised to specify that CMRA owners or managers must record when a PMB closes, enter that date in the CMRA Customer Registration Database, and that they must maintain their records for six months after the PMB is closed. Item 1.8.4b will be revised to specify that if a CMRA reships, or otherwise re-mails the mail addressed to a PMB, whether physically or electronically, the CMRA must record on PS Form 1583 and in the CMRA Customer Registration Database the address to where they reship, remail or transmit the customers mail. Additionally, if the mail is physically collected during the time period the PMB is active but remailed for the six month period after the PMB is closed, the remail address needs to be entered into the CMRA Customer Registration Database. Renumbered item 1.8.4d will be deleted as it is addressed in the revisions described above and item 1.8.4e will be deleted as to a separate provision for Restricted Mail, completion of a PS Form 1583 provides for an agent to receive all classes of mail. Items 1.8.4f and 1.8.4g will be renumbered as 1.8.4d and 1.8.4e.

The Postal Service is proposing to delete renumbered 1.8.5, Office Business Center Acting as a CMRA, since office business centers (OBCs) are defined as CMRAs for purposes of this regulation as specified in new subsection 1.8.1, Commercial Mail Receiving Agency.

The Postal Service is proposing to implement this change effective March 1, 2023.

We believe this proposed revision will provide customers with a more efficient process for establishing a CMRA.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633,3641, 3681-3685, and 5001.

2. Revise the Mailing Standards of the United States Postal Service, Domestic Mail Manual (DMM) as follows:

Mailing Standards of the United States Postal Service, Domestic Mail Manual (DMM)

* * * * *

500 Additional Mailing Services

* * * * *

508 Recipient Services

1.0 Recipient Options

* * * * *

1.8 Commercial Mail Receiving Agencies

[Renumber 1.8.1 through 1.8.4 as 1.8.2 through 1.8.5 and add new 1.8.1 to read as follows:]

1.8.1 Commercial Mail Receiving Agency

The definition of a Commercial Mail Receiving Agency is as follows:

a. A Commercial Mail Receiving Agency (CMRA) is defined as a business that, in whole or in part, accepts the delivery of U.S. Mail on behalf of another person or entity as a business service. U.S. Mail is inclusive of all classes of mail.

b. An office business center (OBC) is a business that operates primarily to provide private office facilities and other business support services to individuals or firms (customers). OBCs receive single-point delivery. OBCs are considered CMRAs for postal purposes and must comply with DMM 508.1.8.

c. A business or individual that operates primarily to provide re-shipping or re-delivery services to individuals or firms (customers) is considered a CMRA for postal purposes and must comply with DMM 508.1.8.

1.8.2 Procedures

The procedures for establishing a commercial mail receiving agency (CMRA) are as follows:

* * * * *

b.

* * * * *

[Revise the second paragraph under renumbered item 1.8.2b to read as follows:]

The CMRA owner or manager must present acceptable primary and secondary forms of identification as specified under 608.10.0. The identifications presented must be current (not expired). These identifications must contain sufficient information to confirm that the applicant is who he or she claims to be and is traceable to the bearer. The postmaster (or designee) must list and record sufficient information to identify the two acceptable forms of identification on PS Form 1583-A (block 10).

[Revise the second sentence of the third paragraph under renumbered item 1.8.2b to read as follows:]

* * * If any information required on PS Form 1583-A changes, the CMRA owner or manager must file a new application with the postmaster.

[Revise the text of renumbered item 1.8.2c to read as follows:]

c. The postmaster (or designee) must verify the documentation to confirm that the CMRA owner or manager resides at the permanent home address shown on Form 1583-A; witness the signature of the CMRA owner or manager; and sign Form 1583-A. The postmaster must provide the CMRA owner or manager with a copy of the DMM regulations relevant to the operation of a CMRA under 1.8. The CMRA owner or manager must sign the Form 1583-A acknowledging receipt of the regulations. The postmaster must file the original of the completed Form 1583-A at the Post Office, scan and upload a copy into the Facilities Database (FDB) and provide the CMRA with a duplicate copy.

* * * * *

[Revise the text of renumbered 1.8.2 by adding a new item e and f to read as follows:]

e. CMRAs found not to be operating within the Postal Service regulations will be suspended from authorization to act as a CMRA until the CMRA is in compliance with the regulations. If compliance is not achieved within 30 days, the Postal Service may terminate the CMRA's authorization to accept mail on behalf of others.

f. CMRAs and Private Mail Boxes (PMBs) shall not be utilized for or in furtherance of criminal purposes.

1.8.3 Delivery to CMRA

Procedures for delivery to a CMRA are as follows:

[Revise the text of paragraphs one and two under renumbered item 1.8.3a to read as follows:]

a. Mail delivery to a CMRA requires that the CMRA owner or manager complete and sign PS Form 1583, Application for Delivery of Mail Through Agent, for themselves. Private Mail Boxes (PMBs) for residential/personal use must have a separate PS Form 1583 completed for each addressee. Spouses must each complete and sign a separate PS Form 1583. Each spouse must provide acceptable primary and secondary forms of identification as specified under 608.10.0.

A parent or guardian may receive delivery of a minor's mail by listing the name(s) of each minor on PS Form 1583 (block 11).

* * * * *

[Revise the text in the fourth and fifth paragraph under renumbered item 1.8.3a by combining the text into the fourth paragraph to read as follows:]

If information on the application does not match the identification, the CMRA must deny the application. Furnishing false information on the application or refusing to provide required information is reason for withholding the addressee's mail from delivery to the agent and returning it to the sender.

[Revise the text of the renumbered fifth and sixth paragraphs under renumbered item 1.8.3a to read as follows:]

When any information required on PS Form 1583 changes, the addressee must complete a new application with the CMRA. The addressee must provide acceptable primary and secondary forms of identification as specified under 608.10.0. The identification presented must be current (not expired). It must contain sufficient information to confirm that the applicant is who he or she claims to be and is traceable to the bearer.

The CMRA owner or manager must retain a photocopy of the two forms of identification for verification purposes. The CMRA owner or manager must list and record on PS Form 1583 (block 10) sufficient information to identify the acceptable primary and secondary forms of identification presented and write on PS Form 1583 (block 4) the complete CMRA delivery address used to deliver mail to the addressee.

* * * * *

[Revise the text of renumbered item 1.8.3c to read as follows:]

c. The CMRA must enter the information provided on each PS Form 1583 and upload a clear and legible copy of each identification document into the USPS CMRA Customer Registration Database. The CMRA must maintain completed PS Forms 1583 and a copy of each identification and address document on file at the CMRA business location. The PS Forms 1583 and supporting documents must be available at all times for examination by postal representatives and postal inspectors.

[Delete renumbered item 1.8.3d and renumber items e through j as items d through i.]

* * * * *

[Renumber items h and i as items j and k and add new items h and i to read as follows:]

h. The CMRA must ensure all its addressees (customers) have a current PS Form 1583 on file and updated as necessary in the USPS CMRA Customer Registration Database. Updates shall include the entry of termination dates for any PMBs closed in the previous quarter. Any expired, illegible, or unclear identification or address document uploaded into the CMRA Customer Registration Database shall be considered not in compliance.

i. The CMRA must certify in the USPS CMRA Customer Registration Database each quarter (due on January 15th, April 15th, July 15th, and October 15th), that every PS Forms 1583 it has submitted is current, all termination dates have been updated and no identification documents are expired.

[Revise the last sentence of renumbered item j to read as follows:]

* * * The proper notification must be in writing outlining the specific violation(s) with a 30-day period to comply.

* * * * *

[Revise the text of 1.8.3 by adding a new item l to read as follows:]

l. The Chief Postal Inspector or their designee may issue an emergency mail withholding order to withhold mail to any PMB Holder that is suspected of utilizing a CMRA and/or PMB for any activity that is in violation of United States Code Title 18 or Title 39 and that the mail be returned to sender, forwarded to the mail recovery center, or otherwise in accordance with a court order. The CMRA must give the mail addressed to the withheld PMB to the letter carrier or return it to the Post Office responsible for delivery to the CMRA the next business day after receipt.

1.8.4 Addressee and CMRA Agreement

In delivery of the mail to the CMRA, the addressee and the CMRA agree that:

[Revise the text of renumbered 1.8.4a by adding new second through fifth sentences to read as follows:]

a. * * * The CMRA must write the date of termination on its copy of PS Form 1583. The CMRA must enter the date of termination in the USPS CMRA Customer Registration Database as soon as practical. The CMRA must retain the endorsed copies of PS Forms 1583 for 6 months after the termination date. PS Forms 1583 filed at the CMRA business location must be available at all times for examination by postal representatives and the postal inspectors.

[Revise the text of item b by adding a new second through sixth sentences to read as follows:]

* * * The remail of mail intended for the addressee (customer) is the responsibility of the CMRA. This includes at least a 6-month period after the termination date of the agency relationship between the CMRA and the addressee. The addressee (customer) shall provide the remail address (or email if correspondence is scanned for digital delivery) on PS Form 1583. The remail address shall be entered into the USPS CMRA Customer Registration Database. If the addressee collects their mail in person at the CMRA but elects to have their mail remailed for the 6-month post-termination period, the CMRA shall record this remail address on their copy of PS Form 1583 and enter this remail address in the USPS CMRA Customer Registration Database with the date of termination. * * *

* * * * *

[Revise the text of renumbered 1.8.4 by deleting item d and renumbering items e through g as items d through f.]

[Revise the text of renumbered item d by deleting the second and third sentences.]

* * * * *

[Delete renumbered item 1.8.5, Office Business Center Acting as a CMRA, in its entirety.]

* * * * *

Tram T. Pham,
Attorney, Ethics and Legal Compliance.

[FR Doc. 2023-00437 Filed 1-11-23; 8:45 am]

BILLING CODE P